DEPARTMENT OF TRANSPORTATION

Federal Aviation Administration

14 CFR Part 39

[Docket No. 2001-CE-17-AD]

RIN 2120-AA64

Airworthiness Directives; Fairchild Aircraft Incorporated SA226 and SA227 Series Airplanes

AGENCY: Federal Aviation Administration, DOT.

ACTION: Supplemental notice of proposed rulemaking (NPRM); Reopening of the comment period.

SUMMARY: This document proposes to revise an earlier proposed airworthiness directive (AD) that would apply to certain Fairchild Aircraft Incorporated (Fairchild Aircraft) SA226 and SA227 series airplanes equipped with Skidmore-Wilheim Manufacturing Co. (Skidmore-Wilheim) (formerly Hydromotive) Model V1-15-1000 brake master cylinders. The earlier NPRM would have required you replace these brake master cylinders with new or overhauled units of the same design. The earlier NPRM resulted from reports of dragging brakes during taxi operations. Additional airplane models have been identified on which the unsafe condition exists or could develop. Since these actions impose an additional burden over that proposed in the NPRM, we are reopening the comment period to allow the public the chance to comment on these additional actions.

DATES: The Federal Aviation Administration (FAA) must receive any comments on this proposed rule on or before February 22, 2002.

ADDRESSES: Submit comments to FAA, Central Region, Office of the Regional Counsel, Attention: Rules Docket No. 2001-CE-17-AD, 901 Locust, Room 506, Kansas City, Missouri 64106. You may view any comments at this location between 8 a.m. and 4 p.m., Monday through Friday, except Federal holidays.

You may get service information that applies to this proposed AD from Fairchild Aircraft Incorporated, P.O. Box 790490, San Antonio, Texas 78279-0490; telephone: (210) 824-9421; facsimile: (210) 820-8609. You may also view this information at the Rules Docket at the address above.

FOR FURTHER INFORMATION CONTACT: Werner Koch, Aerospace Engineer, FAA, Airplane Certification Office, 2601 Meacham Boulevard, Fort Worth, Texas 76193-0150; telephone: (817) 222-5133; facsimile: (817) 222-5960.

SUPPLEMENTARY INFORMATION:

Comments Invited

How Do I Comment on This Proposed AD?

The FAA invites comments on this proposed rule. You may submit whatever written data, views, or arguments you choose. You need to include the rule's docket number and submit your comments to the address specified under the caption ADDRESSES. We will consider all comments received on or before the closing date. We may amend this proposed rule in light of comments received. Factual information that supports your ideas and suggestions is extremely helpful in evaluating the effectiveness of this proposed AD action and determining whether we need to take additional rulemaking action.

Are There any Specific Portions of This Proposed AD I Should Pay Attention to?

The FAA specifically invites comments on the overall regulatory, economic, environmental, and energy aspects of this proposed rule that might suggest a need to modify the rule. You may view all comments we receive before and after the closing date of the proposed rule in the Rules Docket. We will file a report in the Rules Docket that summarizes each contact we have with the public that concerns the substantive parts of this proposed AD.

How Can I Be Sure FAA Receives My Comment?

If you want FAA to acknowledge the receipt of your comments, you must include a self-addressed, stamped postcard. On the postcard, write “Comments to Docket No. 2001-CE-17-AD.” We will date stamp and mail the postcard back to you.

Discussion

What Events Have Caused This Proposed AD?

The FAA received several reports of dragging brakes on Fairchild SA226 series airplanes when the brake pedals were operated during taxi operations. After troubleshooting by maintenance personnel, the problem was traced to the master brake cylinder. Disassembly of the malfunctioning master cylinders revealed broken check valve spring washers that, together with the action of the shuttle valve, prevented the release of brake pressure when the brake pedal was released after a brake application. Based on observed failures, FAA has determined that the brake master cylinders should be replaced at intervals of 15,000 hours time-in-service.

What Are the Consequences if the Condition is Not Corrected?

This condition, if not detected or corrected, could cause dragging brakes, which can result in overheated brakes and cause an in-flight wheelwell fire if the dragging takes place during takeoff and the gear is later retracted.

Has FAA Taken Any Action to This Point?

We issued a proposal to amend part 39 of the Federal Aviation Regulations (14 CFR part 39) to include an AD that would apply to certain Fairchild Aircraft SA226 series airplanes equipped with Skidmore-Wilheim Model V1-15-1000 brake master cylinders. This proposal was published in the Federal Register as a notice of proposed rulemaking (NPRM) on August 21, 2001 (66 FR 43814). The NPRM proposed to require you to replace these brake master cylinders with new or overhauled units of the same design.

You would have to accomplish the proposed actions in accordance with the applicable maintenance manual or service bulletin.

Was the Public Invited To Comment?

The FAA encouraged interested persons to participate in the making of this amendment. The following presents the comments received on the proposal and FAA's response to each comment:

Comment Issue No. 1: Expand the applicability.

What Is the Commenter's Concern?

The NPRM indicates that only series SA226 aircraft are affected by this AD. However, the commenter indicates that some SA 227 series airplanes are also affected and the unsafe condition referenced in the NPRM exists or could also develop on those SA227 series airplanes.

What Is FAA's Response to the Concern?

The commenter correctly identified additional applicable SA227 aircraft models. The FAA will include the additional applicable models in the proposed rule. Because this change increases the burden upon the public, we are reopening the comment period for this action.

Comment Issue No. 2: Change the manufacturer's reference.

What Is the Commenter's Concern?

The commenter requests that all references in the NPRM to Fairchild Aircraft, Inc. be changed to Fairchild Aircraft Incorporated.

What Is FAA's Response to the Concern?

The company name Fairchild Aircraft Incorporated is correct on the type certificates. The name Fairchild Aircraft Incorporated will be used in the NPRM.

The FAA's Determination

What Has FAA Decided?

After examining the circumstances and reviewing all available information related to the incidents described above, we have determined that:

—The unsafe condition referenced in this document exists or could develop on other Fairchild SA226 and SA227 series airplanes of the same type design equipped with Skidmore-Wilheim Model V1-15-1000 brake master cylinders;

—The NPRM should be expanded to include these actions; and

—AD action should be taken in order to correct this unsafe condition.

The Supplemental NPRM

How Will the Changes to the NPRM Impact the Public?

Proposing that the NPRM apply to certain Fairchild Aircraft SA226 and SA227 series airplanes equipped with Skidmore-Wilheim Model V1-15-1000 brake master cylinders presents actions that go beyond the scope of what was already proposed. Therefore, we are issuing a supplemental NPRM and reopening the comment period to allow the public additional time to comment on the proposed AD.

What Are the Provisions of the Supplemental NPRM?

The proposed AD would require you to replace or overhaul the brake master cylinders. Procedures are in the applicable Fairchild service bulletin.

Cost Impact

How Many Airplanes Would This Proposed AD Impact?

We estimate that this proposed AD affects 140 airplanes in the U.S. registry.

What Would be the Cost Impact of This Proposed AD on Owners/Operators of the Affected Airplanes?

We estimate the following costs to do any necessary replacements:

Labor cost | New or overhauled parts cost (4 parts for each aircraft required | Total cost per airplane | Total cost on U.S. operators
8 hours × $60 for each hour = $480 | 4 parts × $200 = $800.00 | $1,280 | 140 airplanes × $1,280 = $179,200.

Regulatory Impact

Would This Proposed AD Impact Various Entities?

The regulations proposed herein would not have a substantial direct effect on the States, on the relationship between the national government and the States, or on the distribution of power and responsibilities among the various levels of government. Therefore, it is determined that this proposed rule would not have federalism implications under Executive Order 13132.

Would This Proposed AD Involve a Significant Rule or Regulatory Action?

For the reasons discussed above, I certify that this proposed action (1) is not a “significant regulatory action” under Executive Order 12866; (2) is not a “significant rule” under DOT Regulatory Policies and Procedures (44 FR 11034, February 26, 1979); and (3) if promulgated, will not have a significant economic impact, positive or negative, on a substantial number of small entities under the criteria of the Regulatory Flexibility Act. A copy of the draft regulatory evaluation prepared for this action has been placed in the Rules Docket. A copy of it may be obtained by contacting the Rules Docket at the location provided under the caption ADDRESSES.

List of Subjects in 14 CFR Part 39

Air transportation, Aircraft, Aviation safety, Safety.

The Proposed Amendment

Accordingly, under the authority delegated to me by the Administrator, the Federal Aviation Administration proposes to amend part 39 of the Federal Aviation Regulations (14 CFR part 39) as follows:

PART 39—AIRWORTHINESS DIRECTIVES

1. The authority citation for part 39 continues to read as follows:

Authority: 49 U.S.C. 106(g), 40113, 44701.

§ 39.13 [Amended]

2. FAA amends § 39.13 by adding a new airworthiness directive (AD) to read as follows:

Fairchild Aircraft Incorporated: Docket No. 2001-CE-17-AD

(a) What airplanes are affected by this AD? This AD affects the following airplane models and serial numbers that are certificated in any category:

Model | Serial Nos.
SA226-AT | All.
SA226-T | All.
SA226-T(B) | All.
SA226-TC | All.
SA227-AC, SA227-AT, and SA227-TT | 420 through 583.

(b) Who must comply with this AD? Anyone who wishes to operate any of the above airplanes must comply with this AD.

(c) What problem does this AD address? The actions specified by this AD are intended to correct and prevent future malfunctioning brake master cylinders. Malfunctioning brake master cylinders could cause dragging brakes, which can result in overheated brakes and a wheelwell fire if the dragging takes place during takeoff and the gear is later retracted.

(d) What actions must I accomplish to address this problem? To address this problem, you must do the following, unless already done:

Actions | Compliance | Procedures
Replace the Skidmore-Wilheim Manufacturing Co. Model V1-15-1000 brake master cylinders with new or overhauled Model V1-15-1000 brake master cylinders or FAA-approved equivalent part numbers | Upon the accumulation of 200 hours time in service (TIS) after the effective date of this AD or 15,000 hours total TIS on the affected brake master cylinders, whichever occurs later. Later replacement intervals shall be at 15,000 hours TIS | For SA226 series airplanes, do this action following the procedures in the applicable maintenance manual. Overhaul the brake master cylinders following the procedures in Fairchild Service Bulletin SB 226-32-069, issued October 24, 2001.
|  | For SA227 series airplanes, do this action following the procedures in the applicable maintenance manual. Overhaul the brake master cylinders following the procedures in Fairchild Service Bulletin SB 227-32-045, issued October 24, 2001.

(e) Can I comply with this AD in any other way? You may use an alternative method of compliance or adjust the compliance time if:

(1) Your alternative method of compliance provides an equivalent level of safety; and

(2) The Manager, Fort Worth Airplane Certification Office (ACO), approves your alternative. Send your request through an FAA Principal Maintenance Inspector, who may add comments and then send it to the Manager, Fort Worth ACO.

Note: This AD applies to each airplane identified in paragraph (a) of this AD, regardless of whether it has been modified, altered, or repaired in the area subject to the requirements of this AD. For airplanes that have been modified, altered, or repaired so that the performance of the requirements of this AD is affected, the owner/operator must request approval for an alternative method of compliance in accordance with paragraph (e) of this AD. The request should include an assessment of the effect of the modification, alteration, or repair on the unsafe condition addressed by this AD; and, if you have not eliminated the unsafe condition, specific actions you propose to address it.

(f) Where can I get information about any already-approved alternative methods of compliance? Contact Werner Koch, Aerospace Engineer, FAA, Airplane Certification Office, 2601 Meacham Boulevard, Fort Worth, Texas 76193-0150; telephone: (817) 222-5133; facsimile: (817) 222-5960.

(g) What if I need to fly the airplane to another location to comply with this AD? The FAA can issue a special flight permit under sections 21.197 and 21.199 of the Federal Aviation Regulations (14 CFR 21.197 and 21.199) to operate your airplane to a location where you can accomplish the requirements of this AD.

(h) How do I get copies of the documents referenced in this AD? You may get copies of the documents referenced in this AD from Fairchild Aircraft Incorporated, P.O. Box 790490, San Antonio, Texas 78279-0490. You may view these documents at FAA, Central Region, Office of the Regional Counsel, 901 Locust, Room 506, Kansas City, Missouri 64106.

Issued in Kansas City, Missouri, on December 11, 2001.
Michael Gallagher,
Manager, Small Airplane Directorate, Aircraft Certification Service.

[FR Doc. 01-31298 Filed 12-19-01; 8:45 am]

BILLING CODE 4910-13-U